FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 010099-049.

Title: International Council of Containership Operators.

Parties: A.P. Moller-Maersk A/S; ANL Container Line Pty Ltd.; American President Lines, Ltd.; APL Co. Pte. Ltd.; APL Ltd.; Atlantic Container Line AB; China Shipping Container Lines Co., Ltd.; CMA CGM, S.A.; Companhia Libra de Navegacao; Compania Libra de Navegacion Uruguay S.A.; COSCO Container Lines Co. Ltd; Crowley Maritime Corporation; Delmas SAS; Evergreen Marine Corporation (Taiwan), Ltd.; Hamburg-Süd KG; Hanjin Shipping Co., Ltd.; Hapag-Lloyd AG; Hapag-Lloyd USA LLC; Hyundai Merchant Marine Co., Ltd.; Kawasaki Kisen Kaisha, Ltd.; MISC Berhad; Mediterranean Shipping Co. S.A.; Mitsui O.S.K. Lines, Ltd.; Neptune Orient Lines, Ltd.; Nippon Yusen Kaisha; Norasia Container Line Ltd.; Orient Overseas Container Line, Ltd.; Pacific International Lines (Pte) Ltd.; Safmarine Container Line N.V.; United Arab Shipping Company (S.A.G.); Wan Hai Lines Ltd.; Yang Ming Transport Marine Corp.; and Zim Integrated Shipping Services Ltd.

Filing Party: John Longstreth, Esq.; K & L Gates LLP; 1601 K Street, NW.; Washington, DC 20006-1600.

Synopsis: The amendment would add Compañía Chilena de Navegación Interoceánica S.A. as a party to the agreement.

Agreement No.: 012066-001.

Title: “K” Line/Abou Merhi Space Charter and Cooperative Working Agreement.

Parties: Abou Merhi Lines, S.A.L.; and Kawasaki Kisen Kaisha, LTD.

Filing Party: John P. Meade, Esq.; Vice President-Law; “K” Line America, Inc.; P.O. Box 9; Preston, MD 21655.

Synopsis: The amendment adds Libya to the geographic scope of the agreement.

By Order of the Federal Maritime Commission.
Dated: April 3, 2009.
Karen V. Gregory,
Secretary.

[FR Doc. E9-7952 Filed 4-7-09; 8:45 am]

BILLING CODE 6730-01-P